DEPARTMENT OF ENERGY

Federal Energy Regulatory Commission

[Docket No. RP97-28-005]

Wyoming Interstate Company, Ltd.; Notice of Compliance Filing

August 13, 2001.

Take notice that on July 30, 2001, Wyoming Interstate Company, Ltd (WIC) tendered for filing as part of its FERC Gas Tariff, Second Revised Volume No. 2, the following tariff sheets to become effective August 17, 2001:

Original Sheet Nos. 108-114

WIC states that the above tariff sheets are being filed to implement seven new negotiated rate contracts related to the Medicine Bow Loop Lateral currently under construction.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the web at http://www.ferc.gov using the “RIMS” link, select “Docket #” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-20851 Filed 8-17-01; 8:45 am]

BILLING CODE 6717-01-P